DEPARTMENT OF COMMERCE

Foreign-Trade Zones Board

[S-149-2018]

Foreign-Trade Zone 267—Fargo, North Dakota; Application for Subzone; Digi-Key Corporation; Fargo, North Dakota

An application has been submitted to the Foreign-Trade Zones Board (the Board) by the Municipal Airport Authority of the City of Fargo, grantee of FTZ 267, requesting subzone status for the facility of Digi-Key Corporation (Digi-Key), located in Fargo, North Dakota. The application was submitted pursuant to the provisions of the Foreign-Trade Zones Act, as amended (19 U.S.C. 81a-81u), and the regulations of the Board (15 CFR part 400). It was formally docketed on September 26, 2018.

The proposed subzone (10 acres) is located at 4206 33rd Street and 4551 37th Street, Fargo, North Dakota. No authorization for production activity has been requested at this time. The proposed subzone would be subject to the existing activation limit of FTZ.

In accordance with the Board's regulations, Christopher Kemp of the FTZ Staff is designated examiner to review the application and make recommendations to the Executive Secretary.

Public comment is invited from interested parties. Submissions shall be addressed to the Board's Executive Secretary at the address below. The closing period for their receipt is November 13, 2018. Rebuttal comments in response to material submitted during the foregoing period may be submitted during the subsequent 15-day period to November 26, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Kemp at Christopher.Kemp@trade.gov or (202) 482-0862.

Dated: September 26, 2018.
Andrew McGilvray,
Executive Secretary.

[FR Doc. 2018-21324 Filed 9-28-18; 8:45 am]

BILLING CODE 3510-DS-P